DEPARTMENT OF ENERGY

Federal Energy Regulatory Commission

[Docket No. EL00-84-000]

Prairieland Energy, Inc.; Notice of Filing

June 22, 2000.

Take notice that on June 13, 2000, Prairieland Energy, Inc. (Prairieland) filed a petition pursuant to Rule 207 of the Commission's Rules of Practice and Procedure, 18 CFR 385.207, requesting the Commission to disclaim jurisdiction over Prairieland as a “public utility”, as that latter term is defined in Section 201(e) of the Federal Power Act, 16 U.S.C.A. § 824(e).

In its petition, Prairieland states that it intends to engage in wholesale electric power and energy purchases and sales as a marketing company. Prairieland is a corporation wholly-owned by The Board of Trustees of the University of Illinois, a body corporate and politic of the State of Illinois.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before July 5, 2000. Protests will be considered by the Commission to determine the appropriate action to be taken, but will not serve to make protestants parties to the proceedings. Any person wishing to become a party must file a motion to intervene. Copies of this filing are on file with the Commission and are available for public inspection. This filing may also be viewed on the Internet at http://www,ferc.fed.us/online/rims.htm (call 202-208-2222 for assistance).

David P. Boergers,
Secretary.

[FR Doc. 00-16272 Filed 6-27-00; 8:45 am]

BILLING CODE 6717-01-M